OFFICE OF GOVERNMENT ETHICS

Proposed Collection; Comment Request for Modified OGE Form 201 Ethics Act Access Form

AGENCY: Office of Government Ethics (OGE).

ACTION: Notice.

SUMMARY: After this first round notice and public comment period, OGE plans to submit a modified OGE Form 201 to the Office of Management and Budget (OMB) for review and three-year approval under the Paperwork Reduction Act. The OGE Form 201 is used by persons for requesting access to executive branch public financial disclosure reports and other covered records. OGE is proposing three modifications to the form: Clarifying the prohibited uses statement; updating the Privacy Act Statement summary and the edition date. The modified form will replace the existing one.

DATES: Comments by the agencies and the public on this proposal are invited and should be received by January 17, 2005.

ADDRESSES: You may submit comments to OGE by any of the following methods:

• E-Mail: usoge@oge.gov. For E-mail messages, the subject line should include the following reference: “OGE Form 201 Paperwork Comment.”

• Fax: 202-482-9237.

• Mail, Hand Delivery or Courier: Office of Government Ethics, Suite 500, 1201 New York Avenue, NW., Washington, DC 20005-3917, Attention: Mary T. Donovan.

FOR FURTHER INFORMATION CONTACT: Mary T. Donovan, Office of Government Ethics; telephone: 202-482-9232; TDD: 202-482-9293; FAX: 202-482-9237. A copy of the proposed modified OGE Form 201 may be obtained, without charge, by contacting Ms. Donovan.

SUPPLEMENTARY INFORMATION: The Office of Government Ethics is the supervising ethics office for the executive branch of the Federal Government under section 109(18)(D) of the Ethics in Government Act (the Ethics Act), 5 U.S.C. appendix 109(18)(D). OGE is planning to submit, after this notice and comment period (with any modifications that may appear warranted), a proposed modified OGE Form 201 “Request to Inspect or Receive Copies of SF 278 Executive Branch Personnel Public Financial Disclosure Reports or Other Covered Records' for review and three-year approval by OMB under the Paperwork Reduction Act of 1995 (44 U.S.C. chapter 35). Once finally approved by OMB and adopted by OGE, the modified version of this OGE form will replace the existing version.

The OGE Form 201 (OMB control No. 3209-0002), collects information from, and provides certain information to, persons who seek access to SF 278 reports and other covered records. The form reflects the requirements of the Ethics Act and OGE's implementing regulations that must be met by a person before access can be granted. These requirements relate to information about the identity of the requester, as well as any other person on whose behalf a record is sought, and a notification of prohibited uses of SF 278 reports. See section 105(b) and (c) of the Ethics Act, 5 U.S.C. appendix, section 105(b) and (c), and 5 CFR 2634.603(c) and (f) of OGE's executive branchwide regulations thereunder.

Executive branch departments and agencies are encouraged to utilize the OGE Form 201, but they can, if they so choose, continue to use or develop their own forms as long as they contain all the required information.

Proposed Modifications

First, OGE proposes rewording the prohibited uses statement on the form in order to clarify that the submitter's signature denotes awareness of the prohibited uses of covered records. In addition, OGE proposes moving the statement on the form so that it precedes the signature and date block.

Second, OGE proposes modifying the Privacy Act Statement summary of the OGE Form 201. In 2003, OGE updated the OGE/GOVT-1 system of records notice (covering Executive Branch Personnel Public Financial Disclosure Reports and Other Name-Retrieved Ethics Program Records, and in which completed OGE Form 201s are maintained). See 68 FR 3097-3109, at 3100 (January 22, 2003). As a result, OGE is modifying the sixth routine use listed in the Privacy Act Statement summary in part II of the form. Finally, OGE proposes updating the edition date on pages one and two of the form.

Reporting Burden

OGE estimates that an average of 374 OGE Form 201s will be filed throughout the executive branch each year by members of the public (primarily by news media, public interest groups and private citizens) for the next three years. This figure is based on the number of OGE Form 201s filed at OGE by members of the public (221 for 2003 and 143 for 2004) and responses to OGE's annual agency ethics program questionnaire (244 for 2003 and 140 for 2004) for a total of 748. That number is then divided by two to give the projected annual average of 374.

The estimated average amount of time to complete the form, including review of the instructions, remains at ten minutes. Thus, the estimated annual public burden for the OGE Form 201 (throughout the executive branch) is 63 hours (374 form × 10 minutes per form −number rounded up). This is an increase from the current burden of 37 hours. The current burden accounts for filers whose OGE Form 201s were filed each year only with OGE. The proposed estimate of burden hours includes OGE Form 201s or equivalent access forms filed by the public with departments and agencies throughout the executive branch (including OGE).

Web Site Distribution of Blank Forms

The OGE Form 201 as modified will continue to be made available free-of-charge as a downloadable and fillable Portable Document Format (PDF) file to the public as well as departments and agencies on OGE's Internet Web site at http://www.usoge.gov.

OGE will continue to permit departments and agencies to use the copy of the OGE Form 201 available on OGE's Web site or to develop and utilize their own, electronic versions of the OGE form, provided that they precisely duplicate the original to the extent possible. Agencies can also develop their own access forms, provided all the information required by the Ethics Act and OGE regulations is placed on such forms, along with the appropriate Privacy Act and paperwork notices with any attendant clearances being obtained by the agencies therefor.

For now, OGE itself accepts filing of a completed OGE Form 201 by mail, fax, or in person, but does not permit E-mail or Internet online transmission. Similarly, requested copies of reports or other covered records are supplied by OGE as hard (paper) copies.

Consideration of Comments

Public comment is invited on each aspect of the proposed modified OGE Form 201 as set forth in this notice, including specifically views on the need for and practical utility of this information collection; the accuracy of OGE's burden estimate; the enhancement of quality, utility and clarity of the information collected; and the minimization of burden (including the use of information technology).

Comments received in response to this notice will be summarized for, and may be included with, the OGE request for OMB paperwork approval for this proposed modified information collection. The comments will also become a matter of public record.

Approved: October 27, 2005.
Marilyn L. Glynn,
General Counsel, Office of Government Ethics.

[FR Doc. 05-21834 Filed 11-1-05; 8:45 am]

BILLING CODE 6345-02-P